DEPARTMENT OF COMMERCE

Foreign-Trade Zones Board

[B-18-2024]

Foreign-Trade Zone (FTZ) 90, Notification of Proposed Production Activity; PPC Broadband, Inc.; (Fiber Optic Conduit); East Syracuse, New York

PPC Broadband, Inc. submitted a notification of proposed production activity to the FTZ Board (the Board) for its facilities in East Syracuse, New York, within Subzone 90C. The notification conforming to the requirements of the Board's regulations (15 CFR 400.22) was received on April 26, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is fiber optic conduit (duty rate, 3.1%).

The proposed foreign-status materials and components include polyester pull cord, copper clad steel wire, polyethylene pellets, and polypropylene pellets (duty rate ranges from duty-free to 7.5%). The request indicates that polyester pull cord will be admitted to the zone in privileged foreign (PF) status (19 CFR 146.41), thereby precluding inverted tariff benefits on such items. The request also indicates that certain materials/components are subject to duties under section 301 of the Trade Act of 1974 (section 301), depending on the country of origin. The applicable section 301 decisions require subject merchandise to be admitted to FTZs in PF status.

Public comment is invited from interested parties. Submissions shall be addressed to the Board's Executive Secretary and sent to: ftz@trade.gov. The closing period for their receipt is June 17, 2024.

A copy of the notification will be available for public inspection in the “Online FTZ Information System” section of the Board's website.

For further information, contact Diane Finver at Diane.Finver@trade.gov.

Dated: May 1, 2024.
Elizabeth Whiteman,
Executive Secretary.

[FR Doc. 2024-09779 Filed 5-3-24; 8:45 am]

BILLING CODE 3510-DS-P